DEPARTMENT OF DEFENSE

Department of the Air Force

U.S. Air Force Academy Board of Visitors Meeting

AGENCY: Department of the Air Force, U.S. Air Force Academy Board of Visitors, DOD.

ACTION: Notice of meeting.

SUMMARY: Pursuant to Section 9355, Title 10, United States Code, the U.S. Air Force Academy Board of Visitors will meet at the United States Air Force Academy, Colorado Springs, Colorado, 28 & 29 July 2006. The purpose of the meeting is to consider the morale and discipline, curriculum, instruction, physical equipment, fiscal affairs, academic methods, and other matters relating to the Academy. A portion of the meeting will be open to the public while the other will be closed to the public to discuss matters listed in Paragraphs (2) and (6) of Subsection (c) of Section 552b, Title 5, United States Code. The determination to close one session is based on the consideration that portions of the briefings and discussion will relate to information of a personal nature that, if disclosed, would constitute a clearly unwarranted invasion of personal privacy. The balance of the closed session will address the internal policies and administrative practices of the Board of Visitors of the Academy. Meeting sessions will be held in the Officers' Club, USAFA, CO.

DATES: The U.S. Air Force Academy Board of Visitors will meet at the United States Air Force Academy, Colorado Springs, Colorado, 28 & 29 July 2006.

FOR FURTHER INFORMATION CONTACT: Major Rich Cole, Chief, USAFA Policy and Programs Support, Directorate of Airman Development, Deputy Chief of Staff, Manpower & Personnel, AF/A1DOA, 1040 Air Force Pentagon, Washington, DC, 20330-1040, (703) 695-4456. To attend the 28 & 29 July Board of Visitors meeting call Mr. Johnny Whitaker, Director of Communications, USAFA/CM, U.S. Air Force Academy, 2304 Cadet Dr. Suite 320, USAF Academy, CO 80840, (719) 333-7714.

Bao-Anh Trinh,
Air Force Federal Register Liaison Officer.

[FR Doc. E6-11593 Filed 7-20-06; 8:45 am]

BILLING CODE 5001-05-P